DEPARTMENT OF HOMELAND SECURITY

Federal Emergency Management Agency

44 CFR Part 67

[Docket ID FEMA-2011-0002; Internal Agency Docket No. FEMA-B-1221]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this proposed rule is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before January 3, 2012.

ADDRESSES: The corresponding preliminary Flood Insurance Rate Map (FIRM) for the proposed BFEs for each community is available for inspection at the community's map repository. The respective addresses are listed in the table below.

You may submit comments, identified by Docket No. FEMA-B-1221, to Luis Rodriguez, Chief, Engineering Management Branch, Federal Insurance and Mitigation Administration, Federal Emergency Management Agency, 500 C Street, SW., Washington, DC 20472, (202) 646-4064, or (e-mail) Luis.Rodriguez3@fema.dhs.gov.

FOR FURTHER INFORMATION CONTACT: Luis Rodriguez, Chief, Engineering Management Branch, Federal Insurance and Mitigation Administration, Federal Emergency Management Agency, 500 C Street, SW., Washington, DC 20472, (202) 646-4064, or (e-mail) Luis.Rodriguez3@fema.dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location ** | * Elevation in feet (NGVD) + Elevation in feet (NAVD) # Depth in feet above ground ‸ Elevation in meters (MSL): Existing | * Elevation in feet (NGVD) + Elevation in feet (NAVD) # Depth in feet above ground ‸ Elevation in meters (MSL): Modified
Unincorporated Areas of Carbon County, Montana
Montana | Unincorporated Areas of Carbon County | Clarks Fork Yellowstone River | Approximately 1.89 miles downstream of Twany Trail | None | +3304
|  |  | Approximately 770 feet downstream of the Rock Creek (Lower) confluence | None | +3405
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
Unincorporated Areas of Carbon County
Maps are available for inspection at 17 West 11th Street, Red Lodge, MT 59068.
Unincorporated Areas of Mineral County, Nevada
Nevada | Unincorporated Areas of Mineral County | Cottonwood Creek | Approximately 1,400 feet north of the intersection of Marian Drive and U.S. Route 95 | None | #1
Nevada | Unincorporated Areas of Mineral County | Mina Fan | Approximately 1,584 feet southwest of the intersection of Cross Street and U.S. Route 95 | None | #1
|  |  | Approximately 1.8 miles southwest of the intersection of 1st Street and U.S. Route 95 | None | #1
|  |  | Approximately 2.0 miles southwest of the intersection of Cross Street and U.S. Route 95 | None | #1
|  |  | Approximately 0.7 mile upstream of the intersection of 1st Street and U.S. Route 95 | None | #1
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
Unincorporated Areas of Mineral County
Maps are available for inspection at 105 South A Street, Suite 1, Hawthorne, NV 89415.
City of Lubbock, Texas
Texas | City of Lubbock | Playa System E1 | At the intersection of Avenue T and 40th Street | +3208 | +3206
|  |  | At the intersection of Slide Road and 58th Street | +3255 | +3256
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Lubbock
Maps are available for inspection at City Hall, 1625 13th Street, Lubbock, TX 79401.
City of McCleary, Washington
Washington | City of McCleary | East Fork Wildcat Creek | Approximately 360 feet upstream of State Route 108 | None | +245
|  |  | Approximately 1,200 feet upstream of the railroad | None | +268
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of McCleary
* Maps are available for inspection at City Hall, 100 South 3rd Street, McCleary, WA 98557.

Flooding source(s) | Location of referenced elevation** | *Elevation in feet (NGVD) +Elevation in feet (NAVD) #Depth in feet above ground ‸Elevation in meters (MSL): Effective | *Elevation in feet (NGVD) +Elevation in feet (NAVD) #Depth in feet above ground ‸Elevation in meters (MSL): Modified | Communities affected
Volusia County, Florida, and Incorporated Areas
B-19 Canal | At the Spruce Creek confluence | +4 | +5 | City of Daytona Beach, City of Port Orange, Unincorporated Areas of Volusia County.
| Approximately 375 feet upstream of Beville Road | None | +29
B-27 Canal North | At the LPGA Canal confluence | None | +5 | City of Holly Hill, Unincorporated Areas of Volusia County.
| Approximately 75 feet upstream of Calle Grande Street | None | +5
B-27 Canal South | At the LPGA Canal confluence | None | +5 | City of Daytona Beach, City of Holly Hill.
| Approximately 70 feet upstream of Kingston Avenue | None | +6
Halifax Canal | Approximately 700 feet upstream of Powers Avenue | None | +6 | City of Port Orange.
| Approximately 100 feet upstream of Jackson Street | None | +7
LPGA Canal | At the upstream side of Ridgewood Avenue | None | +4 | City of Holly Hill.
| Approximately 1,940 feet upstream of Center Avenue | None | +7
Laurel Creek | At the upstream side of the railroad | None | +6 | City of Ormond Beach.
| Approximately 330 feet upstream of Laurel Oaks Circle | None | +7
Nova Canal North Reach 1 | Approximately 775 feet downstream of LPGA Boulevard | None | +7 | City of Holly Hill, Unincorporated Areas of Volusia County.
| At the upstream side of Alabama Avenue | None | +7
Nova Canal North Reach 2 | Approximately 1,660 feet downstream of 10th Street | None | +7 | City of Daytona Beach, City of Holly Hill.
| Approximately 925 feet upstream of Orange Avenue | None | +8
Nova Canal South Reach 1 | Approximately 125 feet downstream of Reed Canal Road | None | +7 | City of Daytona Beach, City of South Daytona.
| At the Nova Canal North Reach 2 confluence | None | +8
Nova Canal South Reach 2 | Approximately 1,775 feet upstream of Nova Road | None | +7 | City of Port Orange, City of South Daytona.
| At the Nova Canal South Reach 1 confluence | None | +7
Thompson Creek | At the upstream side of Industrial Drive | +6 | +7 | City of Ormond Beach.
| Approximately 575 feet upstream of Division Avenue | None | +8
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Daytona Beach
Maps are available for inspection at 950 Bellevue Avenue, Room 600, Daytona Beach, FL 32115.
City of Holly Hill
Maps are available for inspection at 1065 Ridgewood Avenue, Holly Hill, FL 32117.
City of Ormond Beach
Maps are available for inspection at 22 South Beach Street, Ormond Beach, FL 32174.
City of Port Orange
Maps are available for inspection at 1000 City Center Circle, Port Orange, FL 32129.
City of South Daytona
Maps are available for inspection at 1672 South Ridgewood Avenue, South Daytona, FL 32119.
Unincorporated Areas of Volusia County
Maps are available for inspection at 123 West Indiana Avenue, DeLand, FL 32720.
Webster County, Iowa, and Incorporated Areas
Des Moines River | Approximately 1.6 miles downstream of U.S. Route 20 | None | +987 | City of Fort Dodge, Unincorporated Areas of Webster County.
| Approximately 2.1 miles upstream of East Hawkeye Avenue | None | +1008
Lizard Creek | At the Des Moines River confluence | +992 | +995 | City of Fort Dodge, Unincorporated Areas of Webster County.
| Approximately 0.9 mile upstream of Phinney Park Drive | +1000 | +999
Soldier Creek | At the Des Moines River confluence | None | +993 | City of Fort Dodge, Unincorporated Areas of Webster County.
| Approximately 1.2 miles upstream of Soldier Creek Drive | None | +1098
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Fort Dodge
Maps are available for inspection at 819 1st Avenue South, Fort Dodge, IA 50501.
Unincorporated Areas of Webster County
Maps are available for inspection at the Webster County Courthouse, 701 Central Avenue, 4th Floor, Fort Dodge, IA 50501.
St. Helena Parish, Louisiana, and Incorporated Areas
Joseph Branch | Approximately 0.70 mile upstream of Kendrick Road | None | +189 | Unincorporated Areas of St. Helena Parish.
| Approximately 0.90 mile upstream of Kendrick Road | None | +189
Ward Line Canal | Approximately 790 feet upstream of Sitman Road | None | +185 | Town of Greensburg.
| Approximately 1,480 feet upstream of Sitman Road | None | +187
* National Geodetic Vertical Datum.
North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Town of Greensburg
Maps are available for inspection at the Town Hall, 14560 Louisiana Highway 37, Greensburg, LA 70441
Unincorporated Areas of St. Helena Parish
Maps are available for inspection at the St. Helena Parish Police Jury Administration Building, 17911 Louisiana Highway 43, Greensburg, LA 70441.
Oceana County, Michigan (All Jurisdictions)
Lake Michigan | Entire shoreline within community | None | +585 | Township of Benona, Township of Claybanks.
Lake Michigan | Entire shoreline within community | None | +584 | Township of Golden.
Pentwater Lake | Entire shoreline | None | +584 | Township of Weare.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Township of Benona
Maps are available for inspection at the Benona Township Hall, 7169 West Baker Road, Shelby, MI 49455.
Township of Claybanks
Maps are available for inspection at the Claybanks Township Hall, 7577 West Cleveland Road, New Era, MI 49446.
Township of Golden
Maps are available for inspection at the Golden Township Hall, 5527 West Fox Road, Mears, MI 49436.
Township of Weare
Maps are available for inspection at the Weare Township Hall, 5846 North Oceana Drive, Hart, MI 49420.
Fort Bend County, Texas, and Incorporated Areas
Brazos River | Approximately 2.16 miles downstream of FM 2759 | +62 | +61 | Town of Thompsons.
| Approximately 2.75 miles upstream of the Alcorn Bayou confluence | None | +71
Oyster Creek | Approximately 1.1 miles downstream of FM 1464 | None | +81 | Fort Bend County Municipal Utility District No. 25.
| Approximately 150 feet downstream of FM 1464 | None | +81
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Fort Bend County Municipal Utility District No. 25
Maps are available for inspection at 8522 Katy Freeway, Suite 300, Houston, TX 77024.
Town of Thompsons
Maps are available for inspection at 520 Thompson Oil Field Road, Thompsons, TX 77481.
Montgomery County, Texas, and Incorporated Areas
Arnold Branch | Approximately 1.4 miles downstream of FM 1488 | None | +219 | Town of Magnolia.
| Approximately 1,475 feet upstream of FM 1488 | None | +246
Peach Creek | Approximately 1,375 feet downstream of Roman Forest Boulevard | None | +85 | Town of Roman Forest.
| Approximately 425 feet upstream of Roman Forest Boulevard | None | +86
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
Town of Magnolia
Maps are available for inspection at 510 Magnolia Boulevard, Magnolia, TX 77356.
Town of Roman Forest
Maps are available for inspection at 2430 Roman Forest Boulevard, New Caney, TX 77357.

(Catalog of Federal Domestic Assistance No. 97.022, “Flood Insurance.”)

Dated: September 13, 2011.
Sandra K. Knight,
Deputy Associate Administrator for Mitigation,Department of Homeland Security,Federal Emergency Management Agency.

[FR Doc. 2011-25611 Filed 10-4-11; 8:45 am]

BILLING CODE 9110-12-P